DEPARTMENT OF TRANSPORTATION

Federal Highway Administration

23 CFR Part 490

[Docket No. FHWA-2013-0054]

RIN 2125-AF54

National Performance Management Measures; Assessing Performance of the National Highway System, Freight Movement on the Interstate System, and Congestion Mitigation and Air Quality Improvement Program

AGENCY: Federal Highway Administration (FHWA), Department of Transportation (DOT).

ACTION: Final regulation; delay of effective date; correction.

SUMMARY: The FHWA is correcting a document that appeared in the Federal Register on May 19, 2017 (82 FR 22879). That document announced the indefinite delay of specific portions of the National Performance Management Measures; Assessing Performance of the National Highway System, Freight Movement on the Interstate System, and Congestion Mitigation and Air Quality Improvement Program Final Rule (PM#3) (RIN 2125-AF54) and announced the initiation of additional regulatory proceedings for those portions. The portions subject to additional proceedings were misidentified as Title 49 provisions instead of Title 23 of the Code of Federal Regulations in the DATES section of the document. They were correctly identified elsewhere in the document. This document provides the appropriate citations in the DATES section as corrected at the end of this document.

DATES: Effective June 5, 2017.

FOR FURTHER INFORMATION CONTACT: Christopher Richardson, Assistant Chief Counsel for Legislation, Regulations, and General Law, Office of Chief Counsel, Federal Highway Administration, 1200 New Jersey Avenue SE., Washington, DC 20590. Telephone: (202) 366-0761. Office hours are from 8:00 a.m. to 4:30 p.m. e.t., Monday through Friday, except Federal holidays.

SUPPLEMENTARY INFORMATION:

Electronic Access and Filing

A copy of the Notice of Proposed Rulemaking (NPRM), all comments received, the Final Rule, and all background material may be viewed online at http://www.regulations.gov using the docket numbers listed above. A copy of this document will be placed on the docket. Electronic retrieval help and guidelines are available on the Web site. It is available 24 hours each day, 365 days each year. An electronic copy of this document may also be downloaded from the Office of the Federal Register's Web site at http://www.ofr.gov and the Government Publishing Office's Web site at http://www.gpo.gov.

Background

On May 19, 2017, at 82 FR 22879, FHWA published a document announcing the indefinite delay of specific portions of the National Performance Management Measures; Assessing Performance of the National Highway System, Freight Movement on the Interstate System, and Congestion Mitigation and Air Quality Improvement Program Final Rule (PM#3) (RIN 2125-AF54) and announced the initiation of additional regulatory proceedings for those portions. The portions subject to additional proceedings were misidentified as Title 49 provisions instead of Title 23 of the Code of Federal Regulations in the DATES section of the document. They were correctly identified elsewhere in the document. In order to avoid confusion, this document restates the appropriate citations to sections of the Final Rule subject to the indefinite delay in the DATES section.

Correction

In FR Doc. 2017-10092 appearing on page 22879 in the Federal Register of Friday, May 19, 2017, the following corrections are made:

On page 22879, in the first column, the DATES section is corrected to read as follows:

“DATES: Effective May 19, 2017, the effective date of the amendments to 23 CFR 490.105(c)(5) and (d)(1)(v), 490.107(b)(1)(ii)(H), (b)(2)(ii)(J), (b)(3)(ii)(I), and (c)(4), 490.109(d)(1)(v) and (f)(1)(v), 490.503(a)(2), 490.505 (Definition of Greenhouse gas (GHG)), 490.507(b), 490.509(f), (g) and (h), 490.511(a)(2), (c), (d), and (f), and 490.513(d) published on January 18, 2017, at 82 FR 5970 is delayed indefinitely.”

Issued on: May 26, 2017.
Walter C. Waidelich, Jr.,
Acting Deputy Administrator, Federal Highway Administration.

[FR Doc. 2017-11530 Filed 6-2-17; 8:45 am]

BILLING CODE 4910-22-P